DEPARTMENT OF DEFENSE

Office of the Secretary

Federal Advisory Committee; Military Leadership Diversity Commission (MLDC); Meetings

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet March 16 to 18, 2010. Subject to the availability of space, the March 17 and 18 meetings are open to the public. The March 16 meeting is closed to the public.

DATES: The meetings will be held: March 16, 2010, from 7 p.m. to 9 p.m. (closed Administrative Working Meeting); March 17, 2010, from 8 a.m. to 5:30 p.m. (open); and March 18, 2010, from 8 a.m. to 4:45 p.m. (open).

ADDRESSES: The meetings will be held at the Sheraton Hotel, 173 Jennifer Rd, Annapolis, MD 21401.

FOR FURTHER INFORMATION CONTACT: Master Chief Steven A. Hady, Designated Federal Officer, MLDC, at (703) 602-0838, 1851 South Bell Street, Suite 532, Arlington, VA. E-mail: steven.hady@wso.whs.mil.

SUPPLEMENTARY INFORMATION: The purpose of the meeting is for the commissioners of the MLDC to continue their efforts to address congressional concerns as outlined in the commission charter.

Agenda

March 16, 2010 Administrative Working Meeting (closed to the public)

7 p.m.-9 p.m.

DFO opens meeting

Discussion led by DFO on commission process management

DFO adjourns the meeting

March 17, 2010 (open to the public)

8 a.m.-12 p.m.

DFO opens the meeting

Commission Chairman opening remarks

Dr. Martha Farnsworth Riche and Dr. Amanda Kraus, CNA, brief the dimensions of diversity and their operational impacts

Open discussion on career development: diversity leadership and training

Open Discussion on career development: branching and assignments

12 p.m.

DFO recesses the meeting

1:30 p.m.-5:30 p.m.

DFO opens meeting

Open discussion on legal implications of diversity management

General James T. Conway, Commandant of the Marine Corps, addresses the MLDC

Open discussion on promotion

Open discussion on retention

Commission Chairman closing remarks

DFO adjourns the meeting

March 18, 2010 (open to the public)

8 a.m.-11:30 a.m.

DFO opens the meeting

Commission Chairman opening remarks

Mr. Claiborne D. Haughton, Former Acting Deputy Assistant Secretary of Defense for Equal Opportunity, SES-4, addresses the MLDC

Briefings from the Office of the Secretary of Defense (OSD) and Service representatives from organizations responsible for implementation and accountability

11:30 a.m.

DFO recesses the meeting

12:30 p.m.—4:45 p.m.

DFO opens meeting

Briefings from OSD and Service representatives from organizations responsible for implementation and accountability (continued)

Commission Chairman closing remarks

DFO adjourns the meeting

Public's Accessibility to the Meeting

Pursuant to 5 U.S.C. 552b and 41 CFR 102-3.140 through 102-3.165, and the availability of space, the meetings on March 17 and 18, 2010, will be open to the public.

However, pursuant to 41 CFR 3.160(b), the Administrative Working Meeting on March 16, 2010, shall be closed to the public.

Please note that the availability of seating is on a first-come basis.

Written Statements

Pursuant to 41 CFR 102-3.105(j) and 102-3.140, and section 10(a)(3) of the Federal Advisory Committee Act of 1972, the public or interested organizations may submit written statements to the MLDC about its mission and functions. Written statements may be submitted at any time or in response to the stated agenda of a planned meeting of the Commission.

All written statements shall be submitted to the Designated Federal Officer for the MLDC, and this individual will ensure that the written statements are provided to the membership for their consideration. Contact information for the Designated Federal Officer can be obtained from the GSA's FACA Database— https://www.fido.gov/facadatabase/public.asp.

Statements being submitted in response to the agenda mentioned in this notice must be received by the Designated Federal Officer (see FOR FURTHER INFORMATION CONTACT) at least five calendar days prior the meeting which is the subject of this notice. Written statements received after this date may not be provided to or considered by the MLDC until its next meeting.

The Designated Federal Officer will review all timely submissions with the MLDC Chairperson and ensure they are provided to all members of the Commission before the meeting that is the subject of this notice.

Dated: February 18, 2010.
Mitchell S. Bryman,
Alternate OSD Federal Register Liaison Officer, Department of Defense.

[FR Doc. 2010-3666 Filed 2-23-10; 8:45 am]

BILLING CODE 5001-06-P